DEPARTMENT OF THE INTERIOR

National Park Service

[NPS-WASO-CONC-40551; PPWOBSADC0, PPMVSCS1Y.Y00000]

Notice of Intent To Extend and Continue Concession Contracts and Award Temporary Concession Contracts

AGENCY: National Park Service, Interior.

ACTION: Public notice.

SUMMARY: Under the terms of the concession contracts identified in the tables below and its regulations, the National Park Service (NPS) gives public notice that it intends to: extend each concession contract listed in table 1 below until the date shown in the “Extension Expiration Date” column or until the effective date of a new contract, whichever comes first; continue each concession contract listed in table 2 below until the date shown in the “Continuation Expiration Date” column or until the effective date of a new contract, whichever comes first; and award the temporary concession contracts listed in table 3 below

DATES: The NPS intends that the concession contract extensions, continuations, and temporary concession contracts will be effective on the dates shown in the tables below, as applicable, except for the extension of BISO001-14, which the NPS already awarded.

FOR FURTHER INFORMATION CONTACT: Kurt Rausch, Program Chief, Commercial Services Program, National Park Service, 1849 C Street NW, Mail Stop 2410, Washington, DC 20240; Telephone: 202-513-7156.

SUPPLEMENTARY INFORMATION: Under 36 CFR 51.23, the NPS proposes to extend each contract listed in table 1 until the date shown in the “Extension Expiration Date” column or until the effective date of a new contract, whichever comes first, except for the extension of BISO001-14, which the NPS already awarded. The NPS has determined that the proposed extensions are necessary to avoid an interruption of visitor services and has taken all reasonable and appropriate steps to consider alternatives to avoid such an interruption. The extension of the existing contracts does not confer or affect any rights with respect to the award of new contracts.

The concession contracts listed in table 2 below have been extended for the maximum time allowable under 36 CFR 51.23. Under the provisions of the existing contracts and pending the issuance of prospectuses and the completion of the public solicitation process to award new concession contracts, the NPS intends to continue the existing contracts until the date shown in the “Continuation Expiration Date” column or until the effective date of a new contract, whichever comes first. The continuation of the existing contracts does not confer or affect any rights with respect to the award of new concession contracts.

The NPS proposes awarding temporary concession contracts, in accordance with 36 CFR 51.24(a), to provide the visitor services currently provided under the contracts listed in table 3 below. The temporary contracts will have a term not to exceed 3 years and will be awarded to a qualified person. The NPS anticipates that the temporary contracts will be effective on the date shown in the “Effective Date” column. This notice is not a request for proposals.

The publication of this notice reflects the intent of the NPS but does not bind the NPS to extend, continue, or award any of the contracts listed below, except for the extension of BISO001-14, which the NPS already awarded.

Table 1—Concession Contracts Extended Until the Expiration Date Shown or Until the Effective Date of a New Contract, Whichever Comes First
Park unit | CONCID | Concessioner | Extension effective date | Extension expiration date
Acadia NP | ACAD001-13 | Dawnland, LLC | 3/1/2026 | 2/28/2029
Assateague Island NS | ASIS001-14 | MCBP/SFET Joint Venture | 1/1/2026 | 12/31/2028
Big South Fork NR&RA | BISO001-14 | Wilderness Lodging, LLC | 6/17/2025 | 6/16/2026
Cape Lookout NS | CALO001-14 | Island Express Ferry Service, LLC | 1/1/2026 | 12/31/2026
Canyonlands NP | CANY022-16 | Moab Scenic Adventures, LLC | 1/1/2026 | 12/31/2026
Canyonlands NP | CANY024-16 | Myke Hughes, Inc | 1/1/2026 | 12/31/2026
Canyonlands NP | CANY025-16 | NAVTEC Expeditions, Inc | 1/1/2026 | 12/31/2026
Chattahoochee River NRA | CHAT002-14 | Nantahala Outdoor Center, Inc | 12/1/2026 | 11/30/2027
Denali NP&P | DENA001-16 | Doyon/Aramark Denali National Park Concession Joint Venture | 1/1/2028 | 12/31/2029
Delaware Water Gap NRA | DEWA001-15 | Rivers Ridge Properties LLC | 1/1/2026 | 12/31/2027
Dinosaur NM | DINO001-16 | AAM's Mild to Wild Rafting, Inc | 1/1/2026 | 12/31/2026
Dinosaur NM | DINO002-16 | American River Touring Association, Inc | 1/1/2026 | 12/31/2026
Dinosaur NM | DINO003-16 | Colorado Outward Bound School | 1/1/2026 | 12/31/2026
Dinosaur NM | DINO005-16 | Holiday River Expeditions, Inc | 1/1/2026 | 12/31/2026
Dinosaur NM | DINO006-16 | Don Hatch River Expeditions, Inc | 1/1/2026 | 12/31/2026
Dinosaur NM | DINO008-16 | Dinosaur River Tours, LLC | 1/1/2026 | 12/31/2026
Dinosaur NM | DINO009-16 | O.A.R.S. Canyonlands, Inc | 1/1/2026 | 12/31/2026
Dinosaur NM | DINO011-16 | National Outdoor Leadership School | 1/1/2026 | 12/31/2026
Dinosaur NM | DINO012-16 | Griffith Expeditions, LLC | 1/1/2026 | 12/31/2026
Dinosaur NM | DINO014-16 | Eagle Outdoor Sports, Inc | 1/1/2026 | 12/31/2026
Dinosaur NM | DINO016-26 | SUPCOLO, LLC | 1/1/2026 | 12/31/2026
Dry Tortugas NP | DRTO002-15 | Key West Seaplane Adventures, LLC | 9/15/2026 | 9/14/2027
Everglades NP | EVER004-11 | TRF Concession Specialists of Florida, Inc | 1/1/2026 | 12/31/2026
Glacier NP | GLAC004-15 | Belton Chalets, Inc | 1/1/2026 | 12/31/2026
Glacier Bay NP&P | GLBA035-15 | Glacier Bay Sea Kayaks, Inc | 1/1/2026 | 12/31/2026
Great Smoky Mountains NP | GRSM004-16 | National and State Park Concessions Riding Stables, Inc | 1/1/2026 | 12/31/2026
Grand Teton NP | GRTE001-07 | Grand Teton Lodge Company | 1/1/2026 | 12/31/2026
Hot Springs NP | HOSP001-16 | HSMT, LLC | 4/1/2026 | 12/31/2027
Hot Springs NP | HOSP002-12 | Buckstaff Bath House Company | 1/1/2026 | 12/31/2026
Isle Royale NP | ISRO006-16 | Royale Air Service, Inc | 1/1/2026 | 12/31/2027
Katmai NP&P | KATM002-17 | No See Um Lodge, Inc | 1/1/2027 | 12/31/2027
Katmai NP&P | KATM003-17 | Alaska's Enchanted Lake Lodge, Inc | 1/1/2027 | 12/31/2027
Katmai NP&P | KATM004-17 | Katmai Air, LLC dba Kulik Lodge | 1/1/2027 | 12/31/2027
Katmai NP&P | KATM005-17 | Bear Trail Lodge, LLC | 1/1/2027 | 12/31/2027
Katmai NP&P | KATM006-17 | Royal Wolf Lodge, LLC | 1/1/2027 | 12/31/2027
Katmai NP&P | KATM007-17 | Crystal Creek Lodge, LLC | 1/1/2027 | 12/31/2027
Mount Rainier NP | MORA001-16 | Rainier Mountaineering, Inc | 11/1/2026 | 10/31/2028
Mount Rainier NP | MORA005-16 | Alpine Ascents International LLC | 11/1/2026 | 10/31/2028
Mount Rainier NP | MORA006-16 | International Mountain Guides, LLC | 11/1/2026 | 10/31/2028
Mount Rainier NP | MORU003-16 | Xanterra Parks & Resorts, Inc | 10/15/2026 | 12/31/2028
Ozark NSR | OZAR012-14 | O D Blackwell1, LLC | 1/1/2026 | 12/31/2026
Padre Island NS | PAIS002-16 | Worldwinds Windsurfing, Inc | 1/1/2026 | 12/31/2026
Rock Creek P | ROCR005-16 | NCR Guest Services, LLC | 3/15/2026 | 12/31/2027
Rocky Mountain NP | ROMO003-16 | San Juan Mountain Guides, LLC | 1/1/2026 | 12/31/2026
Rocky Mountain NP | ROMO031-16 | The Pumpkin Patch, LLC | 1/1/2026 | 12/31/2026
Rocky Mountain NP | ROMO032-16 | Kent Mountain Adventure Center, Inc | 1/1/2026 | 12/31/2026
Rocky Mountain NP | ROMO034-16 | Boulder Wilderness Shuttle, LLC | 1/1/2026 | 12/31/2026
Rocky Mountain NP | ROMO035-16 | The Mountain Guides, Inc | 1/1/2026 | 12/31/2026
Sequoia & Kings Canyon NPs | SEKI001-19 | Timothy B. Loverin | 1/1/2026 | 12/31/2026
Shenandoah NP | SHEN001-13 | DNC Parks & Resorts at Shenandoah, Inc | 1/1/2026 | 12/31/2027
Yellowstone NP | YELL500-14 | Arden Bailey | 7/1/2026 | 6/30/2027
Yellowstone NP | YELL501-14 | Three Bear Rentals, LLC | 7/1/2026 | 6/30/2027
Yellowstone NP | YELL502-14 | Three Bear Rentals, LLC | 7/1/2026 | 6/30/2027
Yellowstone NP | YELL503-14 | DNC Parks & Resorts Yellowstone Adventures, Inc | 7/1/2026 | 6/30/2027
Yellowstone NP | YELL504-14 | Back Country Adventures, Inc | 7/1/2026 | 6/30/2027
Yellowstone NP | YELL505-14 | DNC Parks & Resorts Yellowstone Adventures, Inc | 7/1/2026 | 6/30/2027
Yellowstone NP | YELL506-14 | DNC Parks & Resorts Yellowstone Adventures, Inc | 7/1/2026 | 6/30/2027
Yellowstone NP | YELL507-14 | DNC Parks & Resorts Yellowstone Adventures, Inc | 7/1/2026 | 6/30/2027
Yellowstone NP | YELL508-14 | DNC Parks & Resorts Yellowstone Adventures, Inc | 7/1/2026 | 6/30/2027
Yellowstone NP | YELL509-14 | DNC Parks & Resorts Yellowstone Adventures, Inc | 7/1/2026 | 6/30/2027
Yellowstone NP | YELL510-14 | DNC Parks & Resorts Yellowstone Adventures, Inc | 7/1/2026 | 6/30/2027
Yellowstone NP | YELL511-14 | DNC Parks & Resorts Yellowstone Adventures, Inc | 7/1/2026 | 6/30/2027
Yellowstone NP | YELL512-14 | ARAMARK Sports and Entertainment Services, LLC | 7/1/2026 | 6/30/2027
Yellowstone NP | YELL513-14 | ARAMARK Sports and Entertainment Services, LLC | 7/1/2026 | 6/30/2027
Yellowstone NP | YELL514-14 | ARAMARK Sports and Entertainment Services, LLC | 7/1/2026 | 6/30/2027
Yellowstone NP | YELL515-14 | ARAMARK Sports and Entertainment Services, LLC | 7/1/2026 | 6/30/2027
Yellowstone NP | YELL516-14 | ARAMARK Sports and Entertainment Services, LLC | 7/1/2026 | 6/30/2027
Yellowstone NP | YELL517-14 | ARAMARK Sports and Entertainment Services, LLC | 7/1/2026 | 6/30/2027
Yellowstone NP | YELL518-14 | ARAMARK Sports and Entertainment Services, LLC | 7/1/2026 | 6/30/2027
Yellowstone NP | YELL519-14 | Teton Science Schools, Inc | 7/1/2026 | 6/30/2027
Yellowstone NP | YELL520-14 | Teton Science Schools, Inc | 7/1/2026 | 6/30/2027
Yellowstone NP | YELL522-14 | Gary Fales Outfitting, Inc | 7/1/2026 | 6/30/2027
Yellowstone NP | YELL523-14 | DNC Parks & Resorts Yellowstone Adventures, Inc | 7/1/2026 | 6/30/2027
Zion NP | ZION001-15 | Bryce-Zion Trail Rides, Inc | 1/1/2026 | 12/31/2026

Table 2—Concession Contracts Continued Until the Expiration Date Shown or Until the Effective Date of a New Contract, Whichever Comes First
Park unit | CONCID | Concessioner | Continuation effective date | Continuation expiration date
Glen Canyon NRA | GLCA002-88 | Aramark Sports and Entertainment Services, LLC | 1/1/2026 | 12/31/2026
Glen Canyon NRA | GLCA003-69 | Aramark Sports and Entertainment Services, LLC | 1/1/2026 | 12/31/2026
Lake Mead NRA | LAKE002-82 | LMNRA Guest Services, LLC | 1/1/2026 | 12/31/2026
Lake Mead NRA | LAKE005-97 | LMNRA Guest Services, LLC | 1/1/2026 | 12/31/2026
Lake Mead NRA | LAKE006-74 | Las Vegas Boat Harbor, Inc | 1/1/2026 | 12/31/2026
Lake Mead NRA | LAKE009-88 | LMNRA Guest Services, LLC | 1/1/2026 | 12/31/2026
National Mall and Memorial Parks | NACC003-86 | Guest Services, Inc | 1/1/2026 | 12/31/2026

Table 3—Temporary Concession Contract
Park unit | CONCID | Services | Effective date
Blue Ridge PW | BLRI008-13 | Food and beverage and retail | 2/1/2026
Blue Ridge PW | BLRI010-13 | Boat rentals and food and beverage | 4/1/2026
Glen Canyon NRA | GLCA007-03 | Food and beverage, marinas, retail, lodging, service stations, campgrounds, trailer village, and shower and laundry | 1/1/2026

Nicole Woody,
Acting Associate Director, Business Services.

[FR Doc. 2025-19359 Filed 10-1-25; 8:45 am]

BILLING CODE 4312-52-P